NUCLEAR REGULATORY COMMISSION

[Docket No. 50-302, License No. DPR-72; Docket No. 50-302, NRC-2010-0096]

Florida Power Corporation, City of Alachua, City of Bushnell, City of Gainesville, City of Kissimmee, City of Leesburg, City of New Smyrna Beach and Utilities Commission, City of New Smyrna Beach, City of Ocala, Orlando Utilities Commission and City of Orlando, Seminole Electric Cooperative, Inc., Crystal River Unit 3 Nuclear Generating Plant; Receipt of Request for Action Under 10 CFR 2.206

Notice is hereby given that by petition dated December 5, 2009, Mr. Thomas Saporito (petitioner) has requested that the U.S. Nuclear Regulatory Commission (NRC) take action with regard to the licensee for the Crystal River Unit 3 Nuclear Generating Plant (CR-3). The petitioner requests that NRC take enforcement action against the licensee and issue a Confirmatory Order requiring that the licensee take the following actions at CR-3:

1. Physically remove the outer 10 inches of concrete surrounding the CR-3 containment building from the top of the containment building to the bottom of the containment building and encompassing 360 degrees around the entire containment building;

2. Test samples of the concrete removed from the CR-3 containment building for composition and compare the test results to a sample of concrete from a similarly designed facility like the Florida Power and Light Company, Turkey Point Nuclear Plant;

3. Maintain the CR-3 in cold-shutdown mode until such time as the licensee can demonstrate full compliance with its NRC operating license for CR-3 within the safety margins delineated in the licensee's Final Safety Analysis Report (FSAR) and within the CR-3 site-specific technical specifications; and

4. Provide the public with an opportunity to intervene at a public hearing before the NRC Atomic Safety and Licensing Board to challenge any certification made by the licensee to NRC that it has reestablished full compliance with 10 CFR part 50 and the safety margins delineated in its FSAR and technical specifications.

In addition, during the January 7, 2010, conference call, the petitioner supplemented his December 5, 2009, petition with a verbal request to require the licensee to reform the containment building with additional concrete. The Petition Review Board (PRB) determined that this request supplements Item 1.

As the basis for the request:

1. The petitioner stated that during a maintenance activity performed under the direction and authorization of the licensee to cut an opening in the CR-3 containment building for access to replace steam generator units, the CR-3 containment building was discovered to have one or more separations between the poured concrete perimeter wall of the containment building and the horizontally installed tendons placed from top to bottom around the containment building within 10 inches of the outermost part of the 42-inch thick concrete perimeter wall of the containment building. To date, the licensee has not been able to determine the “root-cause” of this structural failure.

2. The petitioner stated that the licensee is currently engaged in conducting Impulse Testing of the remaining CR-3 containment building perimeter wall to determine if additional separations exist. However, the petitioner implies that the licensee's use of Impulse Testing is not sufficient to make such a determination. Notably, Impact Echo testing is used worldwide to determine concrete cracking and failures on public bridges and the like, but even this type of testing is not sufficient to fully validate the entirety of the CR-3 containment building. Moreover, the petitioner believes that even the use of destructive testing to make visual inspections of small areas of the CR-3 containment building is not sufficient to qualify the entirety of the containment building.

3. The petitioner stated that removal of 10 inches of concrete from the outer part of the 42-inch containment building wall from top to bottom and 360-degrees around would effectively expose the entirety of the surrounding 5¼-inch tendons and allow visual inspection of the inner side of the tendons to make certain that no separation between the tendons and the inner part of the concrete wall exist.

4. The petitioner stated that removal of 10-inches of concrete from the outer part of the 42-inch containment building wall from top to bottom and 360 degrees around would ensure for the best possible adhesion of a new concrete pour to the existing inner concrete perimeter wall of the containment building.

5. The petitioner stated that the licensee's FSAR requires that the CR-3 containment building be composed of a monolithic concrete perimeter wall. The petitioner believes that the only way the licensee can fully achieve compliance with its FSAR is to remove 10 inches of concrete from the outer part of the 42-inch containment building wall from top to bottom and 360 degrees around for proper visual inspect repair activities.

Moreover, during the January 7, 2010, conference call, the petitioner implied that a design flaw may have occurred, meaning the actual design of this containment structure has those tendons placed within 10 inches of the exterior part of that 42-inch thick concrete wall; the design may itself be flawed and subject the entire structure to other cracks, fissures, and voids that the licensee simply cannot detect with any type of instrumentation to make certain of their nonexistence. Therefore, the petitioner requested that the CR-3 containment building not only meet but exceed its original design basis as delineated in the FSAR.

The PRB discussed the petitioner's request during internal meetings and made the initial PRB recommendation. The PRB's initial recommendation is as follows:

• Item 1, as supplemented by the January 7, 2010, conference call, does not meet the NRC Management Directive 8.11, “Review Process for 10 CFR 2.206 Petitions” (MD 8.11), criteria for further review under the 10 CFR 2.206 process in that sufficient facts have not been provided to support the request.

• Item 2 does not meet the MD 8.11 criteria for further review under the 10 CFR 2.206 process in that sufficient facts have not been provided to support the request.

• Item 3 meets the criteria established in MD 8.11 for acceptance into the 10 CFR 2.206 process for the petition under consideration.

• Item 4 does not meet the MD 8.11 criteria for further review under the 10 CFR 2.206 process in that the request has not specifically addressed an enforcement-related action.

On February 2, 2010, the petition manager informed the petitioner of the PRB's initial recommendation and offered him a second opportunity to address the PRB. On February 12, 2010, the petitioner declined the opportunity to address the PRB and did not provide any additional information for the PRB's consideration. Therefore, the PRB's initial recommendation, as discussed above, is the PRB's final recommendation.

NRC is treating Item 3 of the petitioner's request pursuant to 10 CFR 2.206, “Requests for Action under This Subpart.” The request has been referred to the Director of the Office of Nuclear Reactor Regulation. As provided by Section 2.206, NRC will take appropriate action on this petition within a reasonable time. A copy of the petition is available for inspection at the Commission's Public Document Room (PDR) located at One White Flint North, Public File Area O1 F21, 11555 Rockville Pike (first floor), Rockville, MD. Publicly available records related to this action will be accessible from the Agencywide Documents Access and Management System (ADAMS) Public Electronic Reading Room on the Internet at the NRC Web site, http://www.nrc.gov/reading-rm/adams.html. Persons who do not have access to ADAMS or who encounter problems in accessing the documents located in ADAMS should contact the NRC PDR reference staff by telephone at 1-800-397-4209 or 301-415-4737 or by e-mail to pdr.Resource@nrc.gov. The ADAMS accession number for the incoming petition request is ML093430702.

Dated at Rockville, Maryland, this 4th day of March, 2010.
For the U.S. Nuclear Regulatory Commission.
Eric J. Leeds,
Director, Office of Nuclear Reactor Regulation.

[FR Doc. 2010-5273 Filed 3-10-10; 8:45 am]

BILLING CODE 7590-01-P